INTERNATIONAL TRADE COMMISSION

19 CFR Parts 201 and 207

[Docket No. MISC-013]

Conduct of Antidumping and Countervailing Duty Investigations and Reviews

AGENCY: International Trade Commission.

ACTION: Final rule.

SUMMARY: The United States International Trade Commission (“Commission”) amends its Rules of Practice and Procedure concerning rules of general application, and provisions concerning the conduct of antidumping and countervailing duty investigations and reviews. The amendments are designed to increase efficiency in processing and reviewing documents filed with the Commission and reduce Commission expenditures.

DATES: This regulation is effective July 25, 2014. This regulation is applicable to all proceedings pending before the Commission as of July 25, 2014.

FOR FURTHER INFORMATION CONTACT: Lisa R. Barton, Secretary, telephone (202) 205-2000, or David Goldfine, Attorney-Advisor, Office of the General Counsel, telephone (202) 708-5452, United States International Trade Commission. Hearing-impaired individuals are advised that information on this matter can be obtained by contacting the Commission's TDD terminal at (202) 205-1810. General information concerning the Commission may also be obtained by accessing its Internet server at http://www.usitc.gov.

SUPPLEMENTARY INFORMATION:

Background

Section 335 of the Tariff Act of 1930 (19 U.S.C. 1335) authorizes the Commission to adopt such reasonable procedures, rules, and regulations as it deems necessary to carry out its functions and duties. This rulemaking seeks to improve provisions of the Commission's existing Rules of Practice and Procedure. The Commission is amending Part 201 of its rules, which are rules of general application. The Commission also is amending Part 207 of its rules covering proceedings such as investigations and reviews conducted under title VII of the Tariff Act of 1930 (“title VII proceedings”). The Commission published a notice of proposed rulemaking (NOPR) in the Federal Register at 78 FR 36446-36449 (June 18, 2013), proposing to amend the Commission's Rules of Practice and Procedure to make certain changes to rules of general application and provisions concerning the conduct of antidumping and countervailing duty investigations and reviews.

Although the Commission considers these rules to be procedural, which are excepted from notice-and-comment under 5 U.S.C. 553(b)(3)(A), the Commission invited the public to comment on all the proposed rules amendments. The NOPR requested public comment on the proposed rules within 60 days of publication of the NOPR. Three law firms which regularly appear before the Commission in Title VII proceedings filed comments: (1) Wiley Rein LLP, (2) Stewart and Stewart LLP, and (3) Cassidy Levy Kent LLP. Wiley Rein LLP filed its comments on behalf of Nucor Corporation, a domestic producer of steel products that frequently appears before the Commission in Title VII proceedings. Stewart and Stewart LLP and Cassidy Levy Kent LLP each filed comments on its own behalf.

The Commission carefully considered all comments received. The Commission's response is provided below in a section-by-section analysis. The Commission appreciates the time and effort the commentators devoted to provide comments on the NOPR.

Regulatory Analysis of Amendments to the Commission's Rules

The Regulatory Flexibility Act (5 U.S.C. 601 et seq.) is inapplicable to this rulemaking because it is not one for which a notice of final rulemaking is required under 5 U.S.C. 553(b) or any other statute. Although the Commission chose to publish a notice of proposed rulemaking, these regulations are “agency rules of procedure and practice,” and thus are exempt from the notice requirement imposed by 5 U.S.C. 553(b). Moreover, the rules are certified as not having a significant economic impact on a substantial number of small entities under the Regulatory Flexibility Act (5 U.S.C. 601 et seq.).

The rules do not impose an information collection burden under the provisions of the Paperwork Reduction Act (44 U.S.C. 3501 et seq.).

The rules do not contain any unfunded mandate or significantly or uniquely affect small governments, as described in the Unfunded Mandates Reform Act of 1995 (Pub. L. 104-4).

The rules do not constitute a “significant regulatory action” under Executive Order 12866 (58 FR 51735, October 4, 1993).

The rules do not have Federalism implications as specified in Executive Order 13132 (64 FR 43255, October 7, 1999).

The amendments are not major rules as defined by section 804 of the Small Business Regulatory Enforcement Fairness Act of 1996 (5 U.S.C. 801 et. seq.). Moreover, they are exempt from the reporting requirements of the Act because they concern rules of agency organization, procedure, or practice that do not substantially affect the rights or obligations of non-agency parties.

Overview of the Amendments to the Regulations

Most of the final rules set forth in this document are identical to the correspondingly numbered proposed rules published on June 18, 2013. For two of the proposed rules (§§ 207.10 and 207.45), no comments were submitted. The Commission found no reason to change those proposed rules on its own before adopting them as final rules. Thus, the preamble to those unchanged final rules is as set forth in the section-by-section analysis of the proposed rules found at 78 FR 36446-36449 (June 18, 2013).

The Commission did receive comments with suggestions for modifications pertaining to the other proposed rules. Those suggestions and the views of the Commission are summarized in the section-by-section analysis of this final rule. The commentary in the June 18, 2013, notice is considered part of the preamble to these final rules, to the extent that such commentary is not inconsistent with the discussion below.

The final rules differ from the proposed rules in two respects. First, with respect to § 201.8, relating to the filing of documents, the Commission has not adopted the proposed securely bound provision in paragraph (d). Second, the Commission has determined to amend its rules to require filing of nine confidential and two non-confidential copies of briefs and other written submissions (rather than eight confidential and four non-confidential copies as required under the current rules) in preliminary and final phase investigations and five-year reviews as reflected in the amendments to §§ 201.8(f), 207.15, 207.23, 207.25, 207.28, 207.30, 207.61(e), 207.62(b)(2), 207.65, 207.67(a), and 207.68(b). These amendments simply change the apportionment of confidential and nonconfidential copies of these written submissions in order to better meet the needs of Commission staff and reduce internal photocopying expenses and will result in a reduction of the overall number of copies that need to be filed. While the amendments to these provisions were not included in the proposed rules and therefore the Commission did not receive comments on them, there is no advance notice requirement for procedural changes to rules such as these under the Administrative Procedure Act. See 5 U.S.C. 553(b)(A). Moreover, in the proposed rulemaking, the Commission received comments with respect to the Commission's retention of paper filing requirements in § 201.8, and those comments are addressed below.

Section-by-Section Analysis

19 CFR Part 201

Subpart B—Initiation and Conduct of Investigations

201.8 Filing of Documents

The NOPR proposed to amend paragraph (d) of § 201.8 by requiring that all paper copies of electronic submissions exceeding fifty (50) pages in length be securely bound and have a divider page and an identifying tab preceding each exhibit and/or attachment. Wiley Rein LLP objected to the proposed amendment as “duplicative,” emphasizing that parties are already required to supply searchable electronic versions of documents to the Commission. Wiley Rein LLP also asserted that preparing bound paper copies imposes an additional burden on the parties appearing before the Commission. Cassidy Levy Kent LLP urged the Commission to “abolish” all paper filing requirements, emphasizing that many other federal agencies and the U.S. Court of International Trade have transitioned from paper to electronic filing.

We adopt the proposed amendments to the rule as drafted in the NOPR, except for the bound copy requirement. We find the commenters' suggestion that the proposed bound copy requirement not be adopted to be persuasive. We also acknowledge that there is a trend toward greater electronic filing in agency and court proceedings. For now, however, the Commission and its staff will need to continue to rely on receiving paper copies of documents in light of the tight deadlines and voluminous factual records entailed by AD/CVD investigations and reviews, as well as the constraints of current technology and the Commission's ability to adopt new technology given budgetary restrictions. Requiring divider pages and tabs for exhibits and attachments will facilitate review of lengthy, multi-part documents by Commission staff. The Commission will continue to monitor requirements pertaining to filing of documents as technology develops.

The Commission has amended paragraph (f) of § 201.8 to require that two copies of nonconfidential documents be filed. As explained above, this is one of several changes that will result in an overall reduction in the number of paper copies of certain submissions to the Commission.

19 CFR Part 207

207.10 Filing of Petition With the Commission

The NOPR proposed to amend paragraph (a) of § 207.10 to require one unbound copy of petitions. None of the comments addressed this specific proposal. Accordingly, we adopt the proposed amendment to the rule as drafted in the NOPR.

Contents of Petition

The NOPR proposed to amend § 207.11(b)(2)(ii) and (iii) by requiring petitioners to provide email addresses for all U.S. producers and U.S. importers identified in the petition. Although the current rules specify that petitioners are required to provide contact information for U.S. producers and U.S. importers, the information required includes street addresses, phone numbers, and contact person(s), but not email addresses. Wiley Rein LLP objected to the proposed amendments as impracticable, particularly in instances where petitioning firms and U.S. importers are competitors. While acknowledging that the proposed amendments are generally sensible, Stewart and Stewart LLP urged the Commission to require parties to provide such information only when it is “reasonably available.”

We adopt the proposed amendments to § 207.11(b)(2)(ii) and (iii) as drafted in the NOPR. We are mindful that the objective of the proposals is to facilitate the electronic distribution of questionnaires. Under the proposed amendments, email addresses for individual contact persons are required only for domestic producers, which petitioners should be readily able to obtain. For importers, there is no requirement to provide email addresses for an individual contact person; instead, a general corporate email account is sufficient, which petitioners should be readily able to obtain. Moreover, as under § 207.11(b)(3), petitioners need not provide information that they can certify is not reasonably available to them.

The NOPR proposed to amend § 207.11(b)(2)(v) by requiring that petitioners provide the email address, street address, city, state, and 5-digit zip code for each purchaser/contact with respect to each lost sales or lost revenue allegation. Only Wiley Rein LLP commented on this proposal. It asserted that the Commission's current approach to investigating lost sales and lost revenues allegations is overly rigid and that the proposed amendment will only further increase the number of lost sales or lost revenue allegations that go uninvestigated.

We adopt the proposed amendment as drafted in the NOPR. It is not true that Commission staff will not investigate lost sales/lost revenues investigations unless each element of the requested contact information is provided. If no contact information is provided for a purchaser, Commission staff will be unable to investigate the allegation. If some information is provided, Commission staff will make reasonable efforts to investigate the allegation in light of available resources. While there may be valid concerns with easing the burden of the process by which lost sales and lost revenue allegations are actually verified by the Commission, it is important to keep in mind that this amendment is designed to facilitate the Commission staff's ability to contact purchasers concerning transmission of lost sales and lost revenue allegations in the first instance. Since email is now the most common means of corporate contact, requiring petitioners to provide email addresses for purchasers is no more burdensome than requiring petitioners to provide phone contact information. Also, under § 207.11(b)(3), petitioners currently are not required to provide information that they can certify is not reasonably available to them. Consequently, contact information that is not reasonably available need not be furnished by petitioners if the required certification is provided.

The NOPR also proposed to amend § 207.11(b)(2)(v) by requiring that petitioners file any lost sales or revenue allegation(s) identified in the petition via a separate electronic data entry process in a manner to be specified in the Commission's Handbook on Filing Procedures. Only Wiley Rein LLP commented on this proposal. While it did not specifically object to the proposed amendment, it cautioned that any electronic filing system for cataloguing lost sales and lost revenue allegations must be secure and flexible enough to permit petitioners to update lost sales and lost revenue allegations throughout the investigation.

We adopt the proposed amendment as drafted in the NOPR. Commission staff is still in the process of examining possible methods for electronic entry of data pertaining to lost sales and lost revenues allegations. Some basic requirements will be specified in the Commission's Handbook on Filing Procedures. As the technology available to the Commission staff evolves, these requirements may be modified.

207.15 Written Briefs and Conference

The Commission has amended the rule to require that nine copies of confidential briefs and witness testimony be filed in preliminary phase investigations. As explained above, this is one of several changes that will better facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.20 Investigative Activity Following Preliminary Determination

The NOPR proposed to amend paragraph (b) of § 207.20 by requiring that all requests for collecting new information be presented at the draft questionnaire stage in final phase investigations. Wiley Rein LLP objected to the proposed amendment, claiming that the need to collect information may not be apparent until after comments on the draft questionnaires are submitted. While acknowledging that the proposed amendment is sensible, Stewart and Stewart nevertheless argued that where a party comes across some new development or information after comments on the draft questionnaires have been filed and can demonstrate the relevance of this information, the Commission should accept a request to collect the information to ensure it has a complete record.

We adopt the proposed amendment to the rule as drafted in the NOPR. Prior to the final phase questionnaires being issued for comment, there already has been a preliminary phase investigation. With this in mind, parties should be able to ascertain, either from their participation in the preliminary phase investigation or their review of the record, what the contested issues in a final phase investigation are likely to be and the types of additional data that should be gathered. While we appreciate the concerns expressed by the commenters, it is important to remember that the rule is not an absolute bar from making subsequent information requests, but permits such requests to be made when there is a compelling need for the information and when the information could not have been requested in the comments on draft questionnaires.

207.23 Prehearing Brief

The Commission has amended the rule to require that nine copies of confidential prehearing briefs be filed in final phase investigations. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.25 Posthearing Briefs

The Commission has amended the rule to require that nine copies of posthearing briefs be filed in final phase investigations. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.28 Anticircumvention

The Commission has amended the rule to require that nine copies of written submissions concerning anticircumvention matters be filed in final phase investigations. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.30 Comment on Information

The Commission has amended the rule to require the filing of nine copies of comments on information disclosed to the parties after they have filed their posthearing brief pursuant to § 207.25. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.45 Investigation To Review Outstanding Determination

The NOPR proposed to amend paragraph (d) of § 207.45 by extending the deadline currently specified in the rule for instituting changed circumstance reviews from 30 days to 45 days, and extending the deadline from 120 days to 180 days for completing changed circumstance reviews. None of the comments addressed this specific proposal. Accordingly, we adopt the proposed amendment to the rule as drafted in the NOPR.

207.61(e) Responses to Notice of Institution

The Commission has amended the rule to require that nine copies of responses to the notice of institution be filed in five-year reviews. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.62(b)(2) Rulings on Adequacy and Nature of Commission Review

The Commission has amended the rule to require that nine copies of comments on adequacy be filed in five-year reviews. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.65 Prehearing Briefs

The Commission has amended the rule to require that nine copies of prehearing briefs be filed in five-year reviews. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.67(a) Posthearing Briefs and Statements

The Commission has amended the rule to require that nine copies of posthearing briefs and statements be filed in five-year reviews. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

207.68(b) Posthearing Briefs and Statements

The Commission has amended the rule to require that nine copies of final comments be filed in five-year reviews. As explained above, this is one of several changes that will facilitate work by Commission staff while resulting in an overall reduction in the number of paper copies of certain submissions to the Commission. The Commission has considered comments submitted in response to the NOPR objecting to the retention of requirements for filing of paper copies, but as indicated in the adopted amendments to § 201.8, believes retention of these requirements is necessary at this time.

List of Subjects in 19 CFR Parts 201 and 207

Administrative practice and procedure, Business and industry, Customs duties and inspection, Imports, Investigations.

For the reasons stated in the preamble, 19 CFR parts 201 and 207 are amended as set forth below:

PART 201—RULES OF GENERAL APPLICATION

1. The authority citation for part 201 continues to read as follows:

Authority: Sec. 335 of the Tariff Act of 1930 (19 U.S.C. 1335), and sec. 603 of the Trade Act of 1974 (19 U.S.C. 2482), unless otherwise noted.

Subpart B—Initiation and Conduct of Investigations

2. Amend § 201.8 by revising paragraphs (d)(1) and (f) to read as follows:

§ 201.8 Filing of documents.

* * * * *

(d) Filing. (1) Except as provided in paragraphs (d)(2) through (6) and (f) of this section, all documents filed with the Commission shall be filed electronically. Completion of filing requires the submission of paper copies by 12 noon, Eastern time, on the next business day. A paper copy provided for in this section must be a true copy of the electronic version of the document, i.e., a copy that is identical in all possible respects. All paper copies of electronic submissions exceeding fifty (50) pages in length must have a divider page and an identifying tab preceding each exhibit and/or attachment. The divider page and/or tab must be labeled with a letter or number that corresponds to a more fully descriptive index. All filings shall comply with the procedures set forth in the Commission's Electronic Document Information System Web site at https://edis.usitc.gov. Failure to comply with the requirements of this chapter and the Handbook on Filing Procedures that apply to the filing of a document may result in the rejection of the document as improperly filed.

* * * * *

(f) Nonconfidential copies. In the event that confidential treatment of a document is requested under § 201.6(b), a nonconfidential version of the document shall be filed, in which the confidential business information shall have been deleted and which shall have been conspicuously marked “nonconfidential” or “public inspection.'” The nonconfidential version shall be filed electronically, and two (2) true paper copies shall be submitted on the same business day as this electronic filing, except as provided in § 206.8 or § 207.3 of this chapter. In the event that confidential treatment is not requested for a document under § 201.6(b), the document shall be conspicuously marked “No confidential version filed,” and the document shall be filed in accordance with paragraph (d) of this section. The name of the person signing the original shall be typewritten or otherwise reproduced on each copy.

* * * * *

PART 207—INVESTIGATIONS OF WHETHER INJURY TO DOMESTIC INDUSTRIES RESULTS FROM IMPORTS SOLD AT LESS THAN FAIR VALUE OR FROM SUBSIDIZED EXPORTS TO THE UNITED STATES

3. The authority citation for part 207 continues to read as follows:

Authority: 19 U.S.C. 1336, 1671-1677n, 2482, 3513.

4. Amend § 207.10 by revising paragraph (a) to read as follows:

§ 207.10 Filing of petition with the Commission.

(a) Filing of the petition. Any interested party who files a petition with the administering authority pursuant to section 702(b) or section 732(b) of the Act in a case in which a Commission determination under title VII of the Act is required, shall file copies of the petition and all exhibits, appendices, and attachments thereto, pursuant to section 201.8 of this chapter, with the Secretary on the same day the petition is filed with the administering authority. A paper original and eight (8) true paper copies of a petition shall be filed. One copy of all exhibits, appendices, and attachments to the petition shall be filed in electronic form on CD-ROM, DVD, or other portable electronic format approved by the Secretary. Petitioners also must file one unbound copy of the petition (the unbound copy of the petition may be stapled or held together by means of a clip). If the petition complies with the provisions of § 207.11, it shall be deemed to be properly filed on the date on which the requisite number of copies of the petition is received by the Secretary, provided that, if the petition is filed with the Secretary after 12:00 noon, eastern time, the petition shall be deemed filed on the next business day. Notwithstanding § 207.11 of this chapter, a petitioner need not file an entry of appearance in the investigation instituted upon the filing of its petition, which shall be deemed an entry of appearance.

* * * * *

5. Amend § 207.11 by revising paragraphs (b)(2)(ii), (iii), and (v) to read as follows:

§ 207.11 Contents of Petition.

* * * * *

(b) * * *

(2) * * *

(ii) A listing of all U.S. producers of the proposed domestic like product(s), including a street address, phone number, and contact person(s) with email address(es) for each producer;

(iii) A listing of all U.S. importers of the subject merchandise, including street addresses, email addresses, and phone numbers for each importer.

* * * * *

(v) A listing of all sales or revenue lost by each petitioning firm by reason of the subject merchandise during the three years preceding filing of the petition. For each named purchaser, petitioners must provide the email address of the specific contact person, street address, city, state, and 5-digit zip code with respect to each lost sales or lost revenue allegation. Petitioners must certify that all lost sales or lost revenue allegations identified in the petition will also be submitted electronically in the manner specified in the Commission's Handbook on Filing Procedures.

* * * * *

6. Revise § 207.15 to read as follows:

§ 207.15 Written briefs and conference.

Each party may submit to the Commission on or before a date specified in the notice of investigation issued pursuant to 207.12 a written brief containing information and arguments pertinent to the subject matter of the investigation. Briefs shall be signed, shall include a table of contents, and shall contain no more than fifty (50) double-spaced and single-sided pages of textual material, and shall be filed electronically, and nine (9) true paper copies shall be submitted on the same business day (on paper measuring 8.5 x 11 inches, double-spaced and single-sided). Any person not a party may submit a brief written statement of information pertinent to the investigation within the time specified and the same manner specified for the filing of briefs. In addition, the presiding official may permit persons to file within a specified time answers to questions or requests made by the Commission's staff. If he deems it appropriate, the Director shall hold a conference. The conference, if any, shall be held in accordance with the procedures in § 201.13 of this chapter, except that in connection with its presentation a party may provide written witness testimony at the conference; if written testimony is provided, nine (9) true paper copies shall be submitted. The Director may request the appearance of witnesses, take testimony, and administer oaths.

7. Amend § 207.20 by revising paragraph (b) to read as follows:

§ 207.20 Investigative activity following preliminary determination.

* * * * *

(b) The Director shall circulate draft questionnaires for the final phase of an investigation to parties to the investigation for comment. Any party desiring to comment on draft questionnaires shall submit such comments in writing to the Commission within a time specified by the Director. All requests for collecting new information shall be presented at this time. The Commission will disregard subsequent requests for collection of new information absent a showing that there is a compelling need for the information and that the information could not have been requested in the comments on the draft questionnaires.

8. Revise § 207.23 to read as follows:

§ 207.23 Prehearing brief.

Each party who is an interested party shall submit to the Commission, no later than five (5) business days prior to the date of the hearing specified in the notice of scheduling, a prehearing brief. Prehearing briefs shall be signed and shall include a table of contents and shall be filed electronically, and nine (9) true paper copies shall be submitted on the same business day. The prehearing brief should present a party's case concisely and shall, to the extent possible, refer to the record and include information and arguments which the party believes relevant to the subject matter of the Commission's determination under section 705(b) or section 735(b) of the Act. Any person not an interested party may submit a brief written statement of information pertinent to the investigation within the time specified and the same manner specified for filing of prehearing briefs.

9. Revise § 207.25 to read as follows:

§ 207.25 Posthearing briefs.

Any party may file a posthearing brief concerning the information adduced at or after the hearing with the Secretary within a time specified in the notice of scheduling or by the presiding official at the hearing. A posthearing brief shall be filed electronically, and nine (9) true paper copies shall be submitted on the same business day. No such posthearing brief shall exceed fifteen (15) pages of textual material, double-spaced and single-sided, when printed out on paper measuring 8.5 x 11 inches. In addition, the presiding official may permit persons to file answers to questions or requests made by the Commission at the hearing within a specified time. The Secretary shall not accept for filing posthearing briefs or answers which do not comply with this section.

10. Revise § 207.28 to read as follows:

§ 207.28 Anticircumvention.

Prior to providing advice to the administering authority pursuant to section 781(e)(3) of the Act, the Commission shall publish in the Federal Register a notice that such advice is contemplated. Any person may file one written submission concerning the matter described in the notice no later than fourteen (14) days after publication of the notice. Such a statement shall be filed electronically, and nine (9) true paper copies shall be submitted on the same business day. The statement shall contain no more than fifty (50) double-spaced and single-sided pages of textual material, when printed out on paper measuring 8.5 x 11 inches. The Commission shall by notice provide for additional statements as it deems necessary.

11. Amend § 207.30 by revising paragraph (b) to read as follows:

§ 207.30 Comment on information.

* * * * *

(b) The parties shall have an opportunity to file comments on any information disclosed to them after they have filed their posthearing brief pursuant to § 207.25. A comment shall be filed electronically, and nine (9) true paper copies shall be submitted on the same business day. Comments shall only concern such information, and shall not exceed 15 pages of textual material, double-spaced and single-sided, when printed out on paper measuring 8.5 x 11 inches. A comment may address the accuracy, reliability, or probative value of such information by reference to information elsewhere in the record, in which case the comment shall identify where in the record such information is found. Comments containing new factual information shall be disregarded. The date on which such comments must be filed will be specified by the Commission when it specifies the time that information will be disclosed pursuant to paragraph (a) of this section. The record shall close on the date such comments are due, except with respect to investigations subject to the provisions of section 771(7)(G)(iii) of the Act, and with respect to changes in bracketing of business proprietary information in the comments permitted by § 207.3(c).

12. Amend § 207.45 by revising paragraph (c) to read as follows:

§ 207.45 Investigation to review outstanding determination.

* * * * *

(c) Institution of an investigation. Within forty-five (45) days after the close of the period for public comments following publication of the receipt of a request, the Commission shall determine whether the request shows changed circumstances sufficient to warrant a review and, if so, shall institute a review investigation. The Commission may also institute a review investigation on its own initiative. The review investigation shall be instituted by notice published in the Federal Register and shall be completed within one hundred eighty (180) days of the date of such publication. If the Commission determines that a request does not show changed circumstances sufficient to warrant a review, the request shall be dismissed and a notice of the dismissal published in the Federal Register stating the reasons therefor.

* * * * *

13. Amend § 207.61 by revising paragraph (e) to read as follows:

§ 207.61 Responses to notice of institution.

* * * * *

(e) A document filed under this section shall be filed electronically, and nine (9) true paper copies shall be submitted on the same business day.

14. Amend § 207.62 by revising paragraph (b)(2) to read as follows:

§ 207.62 Rulings on adequacy and nature of Commission review.

* * * * *

(b) * * *

(2) Comments shall be submitted within the time specified in the notice of institution. In a grouped review, only one set of comments shall be filed per party. Comments shall be filed electronically, and nine (9) true paper copies shall be submitted on the same business day. Comments shall not exceed fifteen (15) pages of textual material, double spaced and single sided, when printed out on paper measuring 8.5 x 11 inches. Comments containing new factual information shall be disregarded.

* * * * *

15. Revise § 207.65 to read as follows:

§ 207.65 Prehearing briefs.

Each party to a five-year review may submit a prehearing brief to the Commission on the date specified in the scheduling notice. A prehearing brief shall be signed and shall include a table of contents. A prehearing brief shall be filed electronically, and nine (9) true paper copies shall be submitted (on paper measuring 8.5 x 11 inches and single-sided) on the same business day. The prehearing brief should present a party's case concisely and shall, to the extent possible, refer to the record and include information and arguments which the party believes relevant to the subject matter of the Commission's determination.

16. Amend § 207.67 by revising paragraph (a) to read as follows:

§ 207.67 Posthearing briefs and statements.

(a) Briefs from parties. Any party to a five-year review may file with the Secretary a posthearing brief concerning the information adduced at or after the hearing within a time specified in the scheduling notice or by the presiding official at the hearing. A posthearing brief shall be filed electronically, and nine (9) true paper copies shall be submitted on the same business day. No such posthearing brief shall exceed fifteen (15) pages of textual material, double spaced and single sided, when printed out on paper measuring 8.5 x 11 inches and single-sided. In addition, the presiding official may permit persons to file answers to questions or requests made by the Commission at the hearing within a specified time. The Secretary shall not accept for filing posthearing briefs or answers which do not comply with this section.

* * * * *

17. Amend § 207.68 by revising paragraph (b) to read as follows:

§ 207.68 Final comments on information.

* * * * *

(b) The parties shall have an opportunity to file comments on any information disclosed to them after they have filed their posthearing brief pursuant to § 207.67. Comments shall be filed electronically, and nine (9) true paper copies shall be submitted on the same business day. Comments shall only concern such information, and shall not exceed 15 pages of textual material, double spaced and single-sided, when printed out on paper measuring 8.5 x 11 inches and single-sided. A comment may address the accuracy, reliability, or probative value of such information by reference to information elsewhere in the record, in which case the comment shall identify where in the record such information is found. Comments containing new factual information shall be disregarded. The date on which such comments must be filed will be specified by the Commission when it specifies the time that information will be disclosed pursuant to paragraph (a) of this section. The record shall close on the date such comments are due, except with respect to changes in bracketing of business proprietary information in the comments permitted by § 207.3(c).

By order of the Commission.
Issued: June 19, 2014.
Lisa R. Barton,
Secretary to the Commission.

[FR Doc. 2014-14675 Filed 6-24-14; 8:45 am]

BILLING CODE 7020-02-P